DEPARTMENT OF TRANSPORTATION

Federal Railroad Administration

[Docket No. FRA-2007-27623]

Notice of Informal Safety Inquiry

AGENCY: Federal Railroad Administration (FRA), DOT.

ACTION: Notice of informal safety inquiry; technical conference.

SUMMARY: FRA is conducting an informal safety inquiry and technical conference to explore the safety implications associated with the use of a variety of safety-relevant technologies that while possibly providing significant efficiencies, may not be designed with failsafe characteristics. Such technologies might range from power-assisted switches historically used in yard operations being used on main tracks, switch position detection and indication in dark territory, to train-pacing software designed for fuel savings. FRA seeks to gain a better perspective on the use of such technology and the safety concerns that may be presented.

DATES: Technical Conference: A technical conference will be held on April 19, 2007 at 10 a.m. in Washington, DC.

Comments: Interested parties may submit comments relevant to the issues identified in this notice or discussed at the technical conference to the address noted below. Such written materials should be submitted by May 18, 2007, however comments submitted after that date will be considered to the extent possible.

ADDRESSES: (1) Technical Conference: The technical conference will be held in the Washington and Jefferson Rooms at the Marriott Residence Inn, 1199 Vermont Avenue, NW., Washington, DC 20005.

(2) Attendance: Persons wishing to participate in the technical conference are requested to provide their names, organizational affiliation, and contact information, to Michelle Silva, Docket Clerk, FRA 1120 Vermont Avenue, NW., Washington, DC 20590 (telephone 202-493-6030).

(3) Comments: Anyone wishing to file a comment related to this informal safety inquiry should refer to the FRA Docket Number FRA-2007-27623. You may submit your comments and related material by only one of the following methods:

(i) By mail to the Docket Management System, U.S. Department of Transportation, Room PL-401, 400 7th Street, SW., Washington, DC 20590-0001; or

(ii) Electronically through the Web site for the Docket Management System at http://dms.dot.gov. For instructions on how to submit comments electronically, visit the Docket Management System Web site and click on the “help” menu.

The Docket Management Facility maintains the public docket for this proceeding. Comments and documents as indicated in this preamble will become part of this docket and will be available for inspection or copying at room PL-401 on the Plaza Level of the Nassif building at the same address during regular business hours. You may also obtain access to this docket on the Internet at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Tom McFarlin, Staff Director, Signal and Train Control Division, FRA Office of Safety Assurance and Compliance, RRS-13, 1120 Vermont Avenue, NW., Stop 25, Washington, DC 20950 (telephone 202-493-6203), or Mark Tessler FRA Office of the Chief Counsel, RCC-10, 1120 Vermont Avenue, NW., Stop 10, Washington, DC 20950 (telephone 202-493-6061).

SUPPLEMENTARY INFORMATION: The purpose of the technical conference is to permit the exchange of information, and to discuss safety considerations and concerns, regarding these various systems being developed and installed outside of the scope of a “conventional” signal or train control system. Historically, FRA has regulated existing signal and train control system configurations under the provisions of 49 Code of Federal Regulations Part 236, Subparts A through G.

During the past few years, the railroad industry has begun to deploy a variety of new devices and systems in what has traditionally been considered to be non-signaled territory. These new systems and devices, or conventional devices used in new applications, are generally constructed from aggregations of existing traditional technologies. Such systems include: remote-controlled power-operated switches in non-signaled track warrant control territory, switch position detection and indication, power-assisted switches used in main track applications, and various track integrity warning systems. Additionally, “train pacing” systems are being developed which could, in the near future, be integrated into existing positive train control (PTC) systems. Generally the separate components that make up these systems have individually proven to provide a reasonably high level of safety. When properly designed, implemented, and maintained, such integrations may result in significant safety and operational benefits; however, the level of safety of systems resulting from the integration of such technologies into new configurations has not always been proven. These devices or systems when used outside of conventional traditional signal or train control systems are not always designed or implemented with fail-safe characteristics.

A number of issues are raised by use of these technologies outside of traditional signal systems:

Power-Operated or Power-Assisted Switches

Power-operated or power-assisted switches being implemented without the same level of mechanical and/or electrically locking, or with a full array of signal indications, as has been historically provided within conventional signal systems.

Methods for protecting power-assisted switches include various forms of switch position indications and electrical locking, but there is little consistency amongst the methods. Issues include, but are not limited to the following:

• Failure to design and implement these type of switches using the closed circuit principle;

• Use of yard-type switches lacking traditional switch-and-lock movement for main track operations;

• Exceeding maximum speeds intended for the type of equipment used;

• Failure to provide proper or sufficient mechanical or electrical locking to ensure safety of train operations;

• Failure to provide secure communications in the control circuitry;

• Failure to provide vital loss of shunt protection at some locations;

• Failure to produce an overall vital design of the system; and

• Failure to establish specific and/or sufficient standards for the design, installation, maintenance, inspection, testing, and repair; along with associated recordkeeping.

Special Track Condition Detection Devices

Special track condition detection devices have been installed both within a conventional signal system, in non-signaled territory, and within PTC systems. These devices include electronically-detected erosion or other significant disturbance of the track bed structure, and if erosion or a disturbance is found, the signals governing movement through the affected are caused to display their most restrictive aspects; or in the case of non-signaled territory, other methods of providing notification of a possible hazardous condition are used (e.g., radio broadcast messaging, wayside indicator lights, indication/warning communicated to central dispatching locations, etc).

Another track integrity system is designed to detect broken rails and train occupancy, and to provide indication to a central dispatching center as well as to trains approaching the area in otherwise non-signaled territory. This system may or may not include switch position detection and it may or may not be of the fail-safe variety.

Issues raised by use of these technologies are similar to those of power-operated or power-assisted switch machines used in non-signaled territory. There may be no formal commissioning procedure, nor a formal maintenance program that would include records of inspections, tests, maintenance, and repairs.

Other Train Control-Like Systems

Many defined areas of remote control locomotive (RCL) operations are being established by which point protection for train movements is not required. In several areas, devices have been or are being installed at the extremities of these “RCL zones” to provide positive protection against unintended encroachment of train movements. Again, not unlike these other systems, there may be no specific constraints on their design, installation, and/or maintenance.

Although FRA intends that this safety inquiry and technical conference address safety and economic implications related to the use of such equipment, FRA expects the focus of the discussions at the technical conference and written comments submitted in connection with this informal safety inquiry, to include the following issues:

• Use of yard-type switches lacking traditional switch-and-lock movement;

• The safety implications related to the design, implementation, installation, and maintenance of existing equipment in new or novel configurations;

• The operational limitations that should be placed on such systems;

• Criteria for determining when such new or novel configurations are defective or unsafe or both;

• The extent of FRA oversight required;

• Criteria for determining when combinations of new or novel configurations require FRA oversight;

• The economic implications of any type of modification and/or FRA oversight program;

• Alternative approaches to mandatory modification of existing equipment (e.g., notification of when the appliances become defective, or replacement of the appliances when that condition exists; mid-life over-hauls) and the economic implication of any suggested approach;

• The safety implications and standards that should and could be addressed by FRA's safety oversight of such systems;

• What components and part or parts of a system should FRA allow without oversight;

• What quality control standards should apply to these components and systems;

• What qualifications/training should the individuals performing the installation, maintenance, testing, and repair, of these components and systems possess;

• How should field or shop repairs of these components and systems be conducted;

• What are the safety implications of allowing such repairs;

• When should a component or system be considered defective;

• What visual and non-destructive inspection techniques are appropriate;

• At what interval should the components or system functions be inspected and/or tested;

• What records, if any, should be maintained of these inspections and tests;

• What, if any, requirements should be applicable regarding the modification or discontinuance of these systems once they are in service; and

• What special instructions should be in place concerning these systems and what efficiency testing standards should be established and followed?

Any person wishing to attend the technical conference should notify FRA's Docket Clerk by mail at the address provided in the ADDRESSES section at least five working days prior to the date of the meeting and if possible, three copies of any materials they wish to present at the conference. FRA reserves the right to limit participation in the conference of persons who fail to provide such notification.

Issued in Washington, DC, on March 22, 2007.
Grady C. Cothen, Jr.,
Deputy Associate Administrator for Safety Standards and Program Development.

[FR Doc. E7-5614 Filed 3-27-07; 8:45 am]

BILLING CODE 4910-06-P